DEPARTMENT OF LABOR

Employment and Training Administration

[TA-W-41,799]

General Electric Industrial Systems, Salem, VA; Notice of Negative Determination Regarding Application for Reconsideration

By application received on September 30, 2002, petitioners requested administrative reconsideration of the Department's negative determination regarding eligibility for workers and former workers of the subject firm to apply for Trade Adjustment Assistance (TAA). The denial notice applicable to workers of General Electric Industrial Systems, Salem, Virginia was signed on September 3, 2002, and published in the Federal Register on September 23, 2002 (67 FR 59551).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at General Electric Industrial Systems, Salem, Virginia, engaged in activities related to production of drives and control systems, was denied because the “contributed importantly” group eligibility requirement of Section 222(3) of the Trade Act was not met. The contributed importantly test is generally demonstrated through a survey of customers of the workers' firm. Results of the survey revealed that customers did not increase their imports of competitive products during the relevant period. The subject firm did not import drives and control systems during the relevant period.

In requesting reconsideration, the petitioner(s) stated that their function as engineers merited separate consideration from the negative determination issued to production workers. This separate consideration appears to be based on the belief that their jobs had been shifted overseas and the understanding that “the moving of business functions overseas is the equivalent of importing products when U.S. jobs are eliminated.”

The work conducted by the engineering group is considered a service. Since the engineering worker group was engaged in design and development and not the actual production of drive and control systems produced at the subject plant they do not meet the eligibility requirements under section 222 of the Trade Act of 1974, as amended. Only in very limited instances are service workers certified for TAA, namely the worker separations must be caused by a reduced demand for their services from a parent or controlling firm or subdivision under certification for TAA. If import impact had been established for the production workers of General Electric Industrial Systems, only then, could the engineers be included in a certification for TAA.

Conclusion

After review of the application and investigative findings, I conclude that there has been no error or misinterpretation of the law or of the facts which would justify reconsideration of the Department of Labor's prior decision. Accordingly, the application is denied.

Signed at Washington, DC, this 5th day of February 2003.
Edward A. Tomchick,
Director, Division of Trade Adjustment Assistance.

[FR Doc. 03-5415 Filed 3-6-03; 8:45 am]

BILLING CODE 4510-30-P